DEPARTMENT OF COMMERCE

International Trade Administration

[A-412-801]

Ball Bearings and Parts Thereof From the United Kingdom: Amended Final Results of Antidumping Duty Administrative Review; 2010-2011

AGENCY: Enforcement and Compliance, International Trade Administration, Department of Commerce.

SUMMARY: The Department of Commerce (the Department) is amending its final results in the administrative review of the antidumping duty order on ball bearings and parts thereof from the United Kingdom for the period May 1, 2010, through April 30, 2011, to correct a ministerial error.

DATES: Effective Date: February 24, 2015.

FOR FURTHER INFORMATION CONTACT: Thomas Schauer, AD/CVD Operations, Office I, Enforcement and Compliance, International Trade Administration, U.S. Department of Commerce, 14th Street and Constitution Avenue NW., Washington, DC 20230; telephone: (202) 482-0410.

SUPPLEMENTARY INFORMATION:

Background

On January 27, 2015, the Department published its final results in the administrative review of the antidumping duty order on ball bearings and parts thereof from the United Kingdom ¹ On January 27, 2015, NSK Europe Ltd. and NSK Bearings Europe Ltd. (collectively, NSK), submitted a ministerial error allegation.² On February 2, 2015, The Timken Company submitted comments.³ Based on the analysis of this allegation, we made a change to the calculation of the weighted-average dumping margin for NSK and for certain of the non-individually examined respondents.

¹ See Ball Bearings and Parts Thereof From Japan and the United Kingdom: Final Results of Antidumping Duty Administrative Reviews; 2010-2011, 80 FR 4248 (January 27, 2015) (Final Results).

² See letter from NSK, “Ball Bearings and Parts from the United Kingdom: Ministerial Error Allegation” (January 27, 2015).

³ See Letter From Timken, “Ball Bearings and Parts Thereof From the United Kingdom; The Timken Company's Reply to NSK's Ministerial Error Allegation” (February 2, 2015).

Scope of the Order

The products covered by the order are ball bearings and parts thereof. These products include all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8414.90.41.75, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80.

Although the HTSUS item numbers above are provided for convenience and customs purposes, the written description of the scope of the order remains dispositive.

The size or precision grade of a bearing does not influence whether the bearing is covered by the order. The order covers all the subject bearings and parts thereof (inner race, outer race, cage, rollers, balls, seals, shields, etc.) outlined above with certain limitations. With regard to finished parts, all such parts are included in the scope of the order. For unfinished parts, such parts are included if they have been heat-treated or if heat treatment is not required to be performed on the part. Thus, the only unfinished parts that are not covered by the order are those that will be subject to heat treatment after importation. The ultimate application of a bearing also does not influence whether the bearing is covered by the order. Bearings designed for highly specialized applications are not excluded. Any of the subject bearings, regardless of whether they may ultimately be utilized in aircraft, automobiles, or other equipment, are within the scope of the order.

Ministerial Error

Section 751(h) of the Tariff Act of 1930, as amended (the Act), and 19 CFR 351.224(f) define a “ministerial error” as an error “in addition, subtraction, or other arithmetic function, clerical error resulting from inaccurate copying, duplication, or the like, and any other similar type of unintentional error which the Secretary considers ministerial.”

On January 27, 2015, NSK submitted a ministerial error allegation. After analyzing NSK's allegation, we agree with NSK that we made a ministerial error within the meaning of 19 CFR 351.224(f) by using an incorrect database for NSK's costs, instead of a revised database for NSK's costs submitted later in the review. Timken argues that the Department should reject NSK's allegation on the grounds that NSK could have raised the allegation in its case brief and it is, therefore, now untimely. Nevertheless, we find that we made an inadvertent error in not using the revised database for NSK's costs and, therefore, are correcting and amending the final results of review in accordance with section 751(h) of the Act and 19 CFR 351.224(e). As a result, the weighted-average dumping margin for NSK changes from 1.55 percent to 1.43 percent. Furthermore, the rate for the respondents not selected for individual examination (except for Bayerische Motoren Werke AG) will be the new rate calculated for NSK, the sole respondent selected for individual examination. The weighted-average dumping margin for Bayerische Motoren Werke AG will remain unchanged from the Final Results because it was based on adverse facts available.

Amended Final Results of the Review

The Department determines that the following amended weighted-average dumping margins exist for the period May 1, 2010, through April 30, 2011:

Company | Weighted-average dumping margin (percent)
Bayerische Motoren Werke AG | 254.25
Bosch Rexroth Limited | 1.43
Caterpillar S.A.R.L | 1.43
Caterpillar Group Services S.A | 1.43
Caterpillar of Australia Pty Ltd | 1.43
Caterpillar Overseas S.A.R.L | 1.43
Caterpillar Marine Power UK | 1.43
NSK | 1.43
Perkins Engines Company Ltd | 1.43

Disclosure

We will disclose the calculation memorandum used in our analysis to parties to this proceeding within five days of the date of the publication of this notice pursuant to 19 CFR 351.224(b).

Assessment Rates

The Department shall determine, and U.S. Customs and Border Protection (CBP) shall assess, antidumping duties on all appropriate entries. In accordance with 19 CFR 351.212(b)(1), for NSK we calculated an importer-specific assessment rate by dividing the total amount of dumping for the reviewed sales by the total entered value of those reviewed sales for each importer.

Consistent with the Department's refinement to its assessment practice, for entries of subject merchandise during the POR produced by NSK for which it did not know that the merchandise was destined for the United States, we will instruct CBP to liquidate un-examined entries at the all-others rate if there is no rate for the intermediate company(ies) involved in the transaction.⁴

⁴ For a full discussion of this clarification, see Antidumping and Countervailing Duty Proceedings: Assessment of Antidumping Duties, 68 FR 23954 (May 6, 2003).

For the companies which were not selected for individual examination, we will instruct CBP to assess antidumping duties at a rate equal to the weighted-average dumping margin listed above for all entries of subject merchandise produced and/or exported by such firms.

We intend to issue liquidation instructions to CBP 15 days after publication of the amended final results of this administrative review.

Cash Deposit Requirements

Because we revoked the antidumping duty order on ball bearings and parts thereof from the United Kingdom effective September 15, 2011, no cash deposits for estimated antidumping duties on future entries of subject merchandise will be required.⁵

⁵ See Ball Bearings and Parts Thereof From Japan and the United Kingdom: Final Results of Sunset Reviews and Revocation of Antidumping Duty Orders, 79 FR 16771 (March 26, 2014).

Notification to Importers

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Administrative Protective Orders

This notice also serves as a reminder to parties subject to administrative protective order (APO) of their responsibility concerning the disposition of proprietary information disclosed under APO in accordance with 19 CFR 351.305(a)(3). Timely written notification of the return or the destruction of APO materials or conversion to judicial protective order is hereby requested. Failure to comply with the regulations and the terms of an APO is a sanctionable violation.

Notification to Interested Parties

We are issuing and publishing these amended final results in accordance with section 751(h) of the Act and 19 CFR 351.224(f).

Dated: February 18, 2015.
Paul Piquado,
Assistant Secretary for Enforcement and Compliance.

[FR Doc. 2015-03770 Filed 2-23-15; 8:45 am]

BILLING CODE 3510-DS-P